DEPARTMENT OF COMMERCE

National Oceanic and Atmospheric Administration

50 CFR Part 660

[Docket No. 231219-0311]

RIN 0648-BM60

Magnuson-Stevens Act Provisions; Fisheries Off West Coast States; Pacific Coast Groundfish Fishery; Pacific Coast Groundfish Fishery Management Plan; 2024 Specifications and Management Measures Corrections

AGENCY: National Marine Fisheries Service (NMFS), National Oceanic and Atmospheric Administration (NOAA), Commerce.

ACTION: Final rule.

SUMMARY: This rule corrects 2024 harvest specifications for several species of groundfish where the numerical values were mathematically calculated incorrectly and do not accurately reflect the harvest policy recommendations of the Pacific Fishery Management Council (Council). These harvest specifications are for groundfish caught in the U.S. exclusive economic zone seaward of Washington, Oregon, and California, consistent with the Magnuson-Stevens Fishery Conservation and Management Act (Magnuson-Stevens Act) and the Pacific Coast Groundfish Fishery Management Plan (PCGFMP). This rule revises harvest limits or allocations that were previously calculated based on incorrect annual catch limits (ACLs). This action implements corrected numerical values that align with the Council's intended harvest policy decisions and considers the most recent fishery information available at the time those policies were recommended.

DATES: This final rule is effective December 27, 2023.

ADDRESSES: This rule is accessible via the internet at the Office of the Federal Register website at https://www.federalregister.gov/. Background information and documents including an analysis for the policy decisions underpinning this action (Analysis), which addresses the statutory requirements of the Magnuson-Stevens Act are available from the Council's website at https://www.pcouncil.org. The final 2022 Stock Assessment and Fishery Evaluation (SAFE) report for Pacific Coast groundfish, as well as the SAFE reports for previous years, are available from the Council's website at https://www.pcouncil.org. The final Environmental Assessment (EA) and Regulatory Impact Review from the 2023-2024 harvest specifications is available from the NMFS website at https://www.fisheries.noaa.gov/region/west-coast.

FOR FURTHER INFORMATION CONTACT: Gretchen Hanshew, Fishery Management Specialist, at 206-526-6147 or gretchen.hanshew@noaa.gov.

SUPPLEMENTARY INFORMATION:

Background

This final rule corrects the numerical values of harvest specifications and resulting harvest target management measures for six species or stock complexes for 2024. The harvest policies by which these numerical values are derived were recommended by the Council at its April and June 2022 meetings and published in a proposed rule on October 14, 2022 (87 FR 62676) and final rule on December 16, 2022 (87 FR 77007). Hereafter, these proposed and final rules for the 2023-2024 harvest specifications and management measures will be referred to as the “original” proposed and final rules. In the original proposed and final rules, numerical values were miscalculated for a small subset (six species or stock complexes) of those harvest specifications and harvest target management measures regulations for 127 groundfish stocks or management units. Numerical values were either too high (increasing risk of overfishing) or too low (increasing risk of not achieving optimum yield). Specific details on the errors and corrected values for each species or stock complex are discussed in detail in the proposed rule for this action (88 FR 73810, October 27, 2023).

The harvest policies used to calculate the numerical values of the corrected harvest specifications and harvest target management measures in this rule are not revised from those described in the original proposed and final rules for the 2023-2024 harvest specifications and management measures. The Council recommended these corrections at its September 2023 meeting.

Corrections to Harvest Specifications and Harvest Targets

As described in the proposed rule (88 FR 73810, October 27, 2023) a few species and stock complex harvest specifications, which are numerical values of the harvestable surplus and include overfishing limits (OFLs), annual biological catch (ABCs), and ACLs, were calculated in error. Subsequent harvest target calculations that stem from the ACLs were also erroneous. This final rule corrects the numerical values of harvest specifications and applies the same sharing agreements to corrected ACLs to recalculate harvest targets. The OFLs, ABCs, and ACLs in this rule are based on the best available biological data, including projected biomass trends, information on assumed distribution of stock biomass, and technical methods used to calculate stock biomass and apportion that biomass within the allocation structure of the PCGFMP. This rule corrects errors in the original proposed and final rules for the 2023-2024 harvest specifications and management measures, as recommended by the Council at its September 7-14, 2023 meeting.

Due to the timing of being made aware of these mistakes, and that the 2023 fishing season was more than 75 percent complete by the time the Council considered this issue at its September 2023 meeting, we are only implementing corrections for 2024. This action includes correctly calculated numerical values for 2024 that are representative of the Council-recommended harvest control rules and that incorporate fishery and other scientific information that was inadvertently omitted. This action does not revise static numerical values deducted from the ACLs, such as set-asides for tribal fisheries or scientific research, except for sablefish north as described in the proposed rule (88 FR 73810, October 27, 2023). All other deductions from the ACLs remain the same as those described in the original proposed rule.

The Stock Assessment and Fishery Evaluation (SAFE) document for 2022, includes a detailed description of the scientific basis for all of the Council's Science and Statistical Committee-recommended OFLs implemented in this rule, and is available at the Council's website, https://www.pcouncil.org.

For all species described in the proposed rule (88 FR 73810, October 27, 2023), revised 2024 OFLs, ABCs, ACLs and fishery harvest guidelines are revised at table 2a to subpart C, and in some cases other necessary adjustments to numerical harvest target management measures in footnotes to that table are also revised. For all species described below, except sablefish north, 2024 trawl or non-trawl allocations are revised at table 2b to subpart C. Also, for all species described in the proposed rule, 2024 shorebased IFQ allocations are revised at § 660.140(d)(1)(ii)(D). Any additional species-specific regulatory changes are described in the proposed rule (88 FR 73810, October 27, 2023).

Summary

NMFS is correcting the harvest specifications and harvest targets for six species and complexes for 2024 as described in the proposed rule (88 FR 73810, October 27, 2023) and as summarized in table 1. The 2024 fishing season begins on January 1, 2024.

Table 1—Proposed Revised 2024 OFLs, ABCs, ACLs, and Fishery Harvest Guidelines (HGs) for 6 Species or Complexes
Stock/complex | Area | OFL (mt) | ABC (mt) | ACL (mt) | Fishery HG (mt)
YELLOWEYE ROCKFISH | Coastwide | 91.2 | 75.9 | 53.3 | 42.6
Canary Rockfish | Coastwide | 1,434 | 1,296 | 1,296 | 1,227.4
Darkblotched Rockfish | Coastwide | 857 | 782 | 782 | 758.7
Sablefish | N of 36° N lat S of 36° N lat | ¹ 10,670 | ¹ 9,923 | 7,730 2,193 | Not Applicable ² 2,165.6
Yellowtail Rockfish | N of 40°10′ N lat | 5,795 | 5,291 | 5,291 | 4,263.3
Minor Shelf Rockfish South | S of 40°10′ N lat | 1,833 | 1,464 | 1,464 | 1,331.4
Note: Rebuilding stocks are capitalized.
¹ Values are the same as those in the 2023-2024 original proposed and final rules and are not revised in this final rule.
² Sablefish north of 36° N lat. has a different long-term allocation framework in the PCGFMP than the other species in this rule. Numerical values following this framework under the new, lower, proposed ACL are found in table 2c to subpart C.

Comments and Responses

The proposed rule had a public comment period open from October 27, 2023 through November 13, 2023 and received no public comments.

Changes From the Proposed Rule

There are no changes from the proposed rule.

Classification

Pursuant to section 304 (b)(1)(A) of the Magnuson-Stevens Act, the NMFS Assistant Administrator has determined that this final rule is consistent with the PCGFMP, other provisions of the Magnuson-Stevens Act, and other applicable law.

The errors were discovered in August 2023 and the recommendations from the Council to correct these errors were transmitted to NMFS on September 20, 2023. NMFS immediately prepared and published a proposed rule with a comment period open from the date of publication on October 27, 2023 through November 13, 2023, the final rule was submitted to DOC OGC for review and clearance on December 12, 2023, and the errors need to be corrected by the start of the fishing year on January 1, 2024. This timeline necessitates that NMFS waive the 30-day delay in effective date of this final rule so that the corrected, calculated values can be in effect by the start of the fishing year. Failure to implement the revised harvest specifications as soon as possible leaves harvest specifications in place that are inconsistent with the best scientific information available and the Council's recommended harvest policies and would cause unnecessary restrictions to industry.

Therefore, NMFS finds that waiving the 30-day delay in effectiveness is warranted under 5 U.S.C. 553(d)(1) because delaying the effective date on these corrective measures beyond January 1, 2024 to allow for a 30-day delay in effectiveness will restrict fisheries by delaying the issuance of some 2024 quota pounds for the subject species and stock complexes. If the 2024 quotas calculated and released by NMFS based on the corrected 2024 harvest specifications in this rule are delayed, shareholders for those quotas effectively receive zero pounds for the start of the year and will be unable to begin fishing. Making this final rule effective upon publication in the Federal Register would relieve restrictions on the amounts of quota pounds that can be issued (and potentially fished) at the start of the fishing year. Therefore, NMFS finds reason to waive the 30-day delay in effectiveness pursuant to 5 U.S.C. 553(d)(1) so that this final rule may become effective upon publication in the Federal Register.

Additionally, a 30-day delay in effectiveness would confuse the industry as to what quota pounds NMFS will issue to holders of quota share for 2024. This could negatively impact vessels because they could end up planning fishing operations under two different quota pound scenarios for 2024. Failure to implement the revised harvest specifications by the start of the fishing year on January 1, 2024 will keep harvest specifications in place that were not calculated to be consistent with harvest policies adopted by the Council and NMFS, and will cause confusion for the regulated public. This outcome runs contrary to the public interest.

Pursuant to Executive Order 13175, this final rule was developed after meaningful consultation and collaboration with tribal officials from the area covered by the PCGFMP. Under the Magnuson-Stevens Act at 16 U.S.C. 1852(b)(5), one of the voting members of the Pacific Council must be a representative of an Indian tribe with federally recognized fishing rights from the area of the Council's jurisdiction. This rule revises the numerical values of the sablefish north ACL to correctly apply the harvest control rules recommended by the Council. As a result, the regulations that implement the long-term allocation and sharing agreements for sablefish north in the PCGFMP, including the numerical calculation of the 10 percent tribal share, must be recalculated and revised in this rule. No other tribal management measures are revised in this rule. The regulations at 50 CFR 660.50 direct NMFS to develop tribal allocations and regulations in consultation with the affected tribes. In this instance, no change to harvest policies was proposed, and therefore additional tribal consultation was not required and none was conducted.

This rule has been determined to be not significant for purposes of Executive Order 12866.

NMFS prepared documentation for the original proposed and final rules, which address the statutory requirements of the Magnuson-Stevens Act, Executive Order 12866, and the Regulatory Flexibility Act. The full suite of alternatives analyzed by the Council can be found on the Council's website at https://www.pcouncil.org. NMFS addressed the statutory requirements of the National Environmental Policy Act through preparation of an environmental impact statement (EIS). NMFS prepared an EIS for the 2015-2016 biennial harvest specifications and management measures and is available from NMFS (see ADDRESSES) and tiered environmental analyses (EA) every biennium since then. This EIS and subsequent EAs examined the harvest specifications and management measures for 2015-2016 and 10-year projections for routinely adjusted harvest specifications and management measures. The 10-year projections evaluated the impacts of the ongoing implementation of harvest specifications and management measures and to evaluate the impacts of the routine adjustments that are the main component of each biennial cycle. This final rule corrects the numerical values that result from the application of best scientific information available and default harvest control rules analyzed in that EIS. There are no environmental effects expected from this rule beyond those evaluated in the EIS and the Environmental Assessment for the 2023-2024 harvest specifications and management measures. The harvest levels for all six species or complexes have not been fully attained in recent years, so minor adjustments to the ACLs implemented in this rule are likely to result in no discernable difference to the fishery or communities.

The Chief Counsel for Regulation of the Department of Commerce certified to the Chief Counsel for Advocacy of the Small Business Administration that the 2023-2024 harvest specifications and management measures in the original proposed and final rules would not have a significant economic impact on a substantial number of small entities. The Chief Counsel for Regulation of the Department of Commerce certified to the Chief Counsel for Advocacy of the Small Business Administration that the proposed rule, if adopted, would not have a significant economic impact on a substantial number of small entities. This final rule implements the proposed rule unchanged, making minor, corrective adjustments to harvest specifications and related allocations and harvest targets that are unlikely to make any appreciable difference to the expected harvests in this mixed-stock fishery because the six species and complexes with corrected numerical values are not constraining access to co-occurring species. This action affects only a small number of species, and in a mixed stock fishery the affected entities for these few species cannot be differentiated from those described in the original proposed rule. The same small entities identified in the original proposed rule are the same parties that would be subject to the minor regulatory corrections in this rule. Additional information about the affected entities and expected impacts, in the context of the entire fishery and all species, can be found in the original proposed rule (87 FR 62676, October, 14, 2022). No environmental or socioeconomic impacts are expected from the changes in this rule, nor does the action diverge from the harvest policies considered in that certification. The corrections in this final rule do not change the overall framework and management measures from the original proposed and final rules and would affect large and small entities similarly. As a result, an initial regulatory flexibility analysis is not required and none has been prepared.

This rule contains no new information collection burden under the Paperwork Reduction Act of 1995.

List of Subjects in 50 CFR Part 660

Fisheries, Fishing, Reporting and recordkeeping requirements.

Dated: December 19, 2023.
Samuel D. Rauch, III,
Deputy Assistant Administrator for Regulatory Programs, National Marine Fisheries Service.

For the reasons set out in the preamble, NOAA amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.50, revise paragraph (f)(2)(ii) to read as follows:

§ 660.50 Pacific Coast treaty Indian fisheries.

* * * * *

(f) * * *

(2) * * *

(ii) The Tribal allocation is 849 mt in 2023 and 773 mt in 2024 per year. This allocation is, for each year, 10 percent of the Monterey through Vancouver area (North of 36° N lat.) ACL. The Tribal allocation is reduced by 1.7 percent for estimated discard mortality.

* * * * *

3. Revise tables 2a, 2b, and 2c to subpart C to read as follows:

Table 2a. to Part 660, Subpart C—2024, and Beyond, Specifications of OFL, ABC, ACL, ACT and Fishery Harvest Guidelines

Table 2a. to Part 660, Subpart C—2024, and Beyond, Specifications of OFL, ABC, ACL, ACT and Fishery Harvest Guidelines
[(Weights in metric tons). Capitalized stocks are overfished.]
Stocks | Area | OFL | ABC | ACL ᵃ | Fishery HG ᵇ
YELLOWEYE ROCKFISH ᶜ | Coastwide | 91 | 76 | 53.3 | 42.6
Arrowtooth Flounder ᵈ | Coastwide | 20,459 | 14,178 | 14,178 | 12,083
Big Skate ᵉ | Coastwide | 1,492 | 1,267 | 1,267 | 1,207.2
Black Rockfish ᶠ | California (S of 42° N lat.) | 364 | 329 | 329 | 326.6
Black Rockfish ᵍ | Washington (N of 46°16′ N lat.) | 319 | 289 | 289 | 270.5
Bocaccio ʰ | S of 40°10′ N lat | 2,002 | 1,828 | 1,828 | 1,779.9
Cabezon ⁱ | California (S of 42° N lat.) | 185 | 171 | 171 | 169.4
California Scorpionfish ʲ | S of 34°27′ N lat | 280 | 252 | 252 | 248
Canary Rockfish ᵏ | Coastwide | 1,434 | 1,296 | 1,296 | 1,227.4
Chilipepper ˡ | S of 40°10′ N lat | 2,346 | 2,121 | 2,121 | 2,023.4
Cowcod ᵐ | S of 40°10′ N lat | 112 | 79 | 79 | 67.8
Cowcod | (Conception) | 93 | 67 | NA | NA
Cowcod | (Monterey) | 19 | 12 | NA | NA
Darkblotched Rockfish ⁿ | Coastwide | 857 | 782 | 782 | 758.7
Dover Sole ᵒ | Coastwide | 55,859 | 51,949 | 50,000 | 48,402.9
English Sole ᵖ | Coastwide | 11,158 | 8,960 | 8,960 | 8,700.5
Lingcod q | N of 40°10′ N lat | 4,455 | 3,854 | 3,854 | 3,574.4
Lingcod ʳ | S of 40°10′ N lat | 855 | 740 | 722 | 706.5
Longnose Skate ˢ | Coastwide | 1,955 | 1,660 | 1,660 | 1,408.7
Longspine Thornyhead ᵗ | N of 34°27′ N lat | 4,433 | 2,846 | 2,162 | 2,108.3
Longspine Thornyhead ᵘ | S of 34°27′ N lat |  |  | 683 | 680.8
Pacific Cod ᵛ | Coastwide | 3,200 | 1,926 | 1,600 | 1,094
Pacific Ocean Perch ʷ | N of 40°10′ N lat | 4,133 | 3,443 | 3,443 | 3,297.5
Pacific Whiting ˣ | Coastwide | (ˣ) | (ˣ) | (ˣ) | (ˣ)
Petrale Sole ʸ | Coastwide | 3,563 | 3,285 | 3,285 | 2,898.8
Sablefish ᶻ | N of 36° N lat | 10,670 | 9,923 | 7,730 | See table 2c
Sablefish ᵃᵃ | S of 36° N lat |  |  | 2,193 | 2,165.6
Shortspine Thornyhead ᵇᵇ | N of 34°27′ N lat | 3,162 | 2,030 | 1,328 | 1,249.7
Shortspine Thornyhead ᶜᶜ | S of 34°27′ N lat |  |  | 702 | 695.3
Spiny Dogfish ᵈᵈ | Coastwide | 1,883 | 1,407 | 1,407 | 1,055.5
Splitnose ᵉᵉ | S of 40°10′ N lat | 1,766 | 1,553 | 1,553 | 1,534.3
Starry Flounder ᶠᶠ | Coastwide | 652 | 392 | 392 | 343.7
Widow Rockfish ᵍᵍ | Coastwide | 12,453 | 11,482 | 11,482 | 11,243.7
Yellowtail Rockfish ʰʰ | N of 40°10′ N lat | 5,795 | 5,291 | 5,291 | 4,263.3
Stock Complexes
Blue/Deacon/Black Rockfish ⁱⁱ | Oregon | 671 | 594 | 594 | 592.2
Cabezon/Kelp Greenling ʲʲ | Washington | 22 | 17 | 17 | 15
Cabezon/Kelp Greenling ᵏᵏ | Oregon | 198 | 180 | 180 | 179.2
Nearshore Rockfish North ˡˡ | N of 40°10′ N lat | 109 | 91 | 91 | 87.7
Nearshore Rockfish South ᵐᵐ | S of 40°10′ N lat | 1,097 | 902 | 891 | 886.5
Other Fish ⁿⁿ | Coastwide | 286 | 223 | 223 | 201.8
Other Flatfish ᵒᵒ | Coastwide | 7,946 | 4,874 | 4,874 | 4,653.2
Shelf Rockfish North ᵖᵖ | N of 40°10′ N lat | 1,610 | 1,278 | 1,278 | 1,207
Shelf Rockfish South qq | S of 40°10′ N lat | 1,833 | 1,464 | 1,464 | 1,331.4
Slope Rockfish North ʳʳ | N of 40°10′ N lat | 1,797 | 1,516 | 1,516 | 1,450.6
Slope Rockfish South ˢˢ | S of 40°10′ N lat | 868 | 697 | 697 | 658.1
ᵃ Annual catch limits (ACLs), annual catch targets (ACTs) and harvest guidelines (HGs) are specified as total catch values.
ᵇ Fishery HGs means the HG or quota after subtracting Pacific Coast treaty Indian tribes allocations and projected catch, projected research catch, deductions for fishing mortality in non-groundfish fisheries, and deductions for EFPs from the ACL or ACT.
ᶜ Yelloweye rockfish. The 53.3 mt ACL is based on the current rebuilding plan with a target year to rebuild of 2029 and an SPR harvest rate of 65 percent. 10.7 mt is deducted from the ACL to accommodate the Tribal fishery (5 mt), EFP fishing (0.12 mt), research catch (2.92 mt), and incidental open access mortality (2.66 mt) resulting in a fishery HG of 42.6 mt. The non-trawl HG is 39.2 mt. The combined non-nearshore/nearshore HG is 8.2 mt. Recreational HGs are: 10 mt (Washington); 9.1 mt (Oregon); and 11.8 mt (California). In addition, the non-trawl ACT is 30.7, and the combined non-nearshore/nearshore ACT is 6.4 mt. Recreational ACTs are: 7.9 mt (Washington), 7.2 (Oregon), and 9.3 mt (California).
ᵈ Arrowtooth flounder. 2,094.98 mt is deducted from the ACL to accommodate the Tribal fishery (2,041 mt), research catch (12.98 mt) and incidental open access mortality (41 mt), resulting in a fishery HG of 12,083 mt.
ᵉ Big skate. 59.8 mt is deducted from the ACL to accommodate the Tribal fishery (15 mt), research catch (5.49 mt), and incidental open access mortality (39.31 mt), resulting in a fishery HG of 1,207.2 mt.
ᶠ Black rockfish (California). 2.26 mt is deducted from the ACL to accommodate EFP fishing (1.0 mt), research catch (0.08 mt), and incidental open access mortality (1.18 mt), resulting in a fishery HG of 326.6 mt.
ᵍ Black rockfish (Washington). 18.1 mt is deducted from the ACL to accommodate the Tribal fishery (18 mt) and research catch (0.1 mt), resulting in a fishery HG of 270.5 mt.
ʰ Bocaccio south of 40°10′ N lat. Bocaccio are managed with stock-specific harvest specifications south of 40°10′ N lat. and within the Minor Shelf Rockfish complex north of 40°10′ N lat. 48.12 mt is deducted from the ACL to accommodate EFP fishing (40 mt), research catch (5.6 mt), and incidental open access mortality (2.52 mt), resulting in a fishery HG of 1,779.9 mt. The California recreational fishery south of 40°10′ N lat. has an HG of 749.7 mt.
ⁱ Cabezon (California). 1.63 mt is deducted from the ACL to accommodate EFP fishing (1 mt), research catch (0.02 mt), and incidental open access mortality (0.61 mt), resulting in a fishery HG of 169.4 mt.
ʲ California scorpionfish south of 34°27′ N lat. 3.89 mt is deducted from the ACL to accommodate research catch (0.18 mt) and incidental open access mortality (3.71 mt), resulting in a fishery HG of 248 mt.
ᵏ Canary rockfish. 68.91 mt is deducted from the ACL to accommodate the Tribal fishery (50 mt), EFP fishing (6 mt), research catch (10.08 mt), and incidental open access mortality (2.83 mt), resulting in a fishery HG of 1,227.4 mt. The combined nearshore/non-nearshore HG is 122.4 mt. Recreational HGs are: 41.8 mt (Washington); 62.9 mt (Oregon); and 112.9 mt (California).
ˡ Chilipepper rockfish south of 40°10′ N lat. Chilipepper are managed with stock-specific harvest specifications south of 40°10′ N lat. and within the Minor Shelf Rockfish complex north of 40°10′ N lat. 97.7 mt is deducted from the ACL to accommodate EFP fishing (70 mt), research catch (14.04 mt), incidental open access mortality (13.66 mt), resulting in a fishery HG of 2,023.4 mt.
ᵐ Cowcod south of 40°10′ N lat. Cowcod are managed with stock-specific harvest specifications south of 40°10′ N lat. and within the Minor Shelf Rockfish complex north of 40°10′ N lat. 11.17 mt is deducted from the ACL to accommodate EFP fishing (1 mt), research catch (10 mt), and incidental open access mortality (0.17 mt), resulting in a fishery HG of 67.8 mt.
ⁿ Darkblotched rockfish. 23.76 mt is deducted from the ACL to accommodate the Tribal fishery (5 mt), EFP fishing (0.5 mt), research catch (8.46 mt), and incidental open access mortality (9.8 mt) resulting in a fishery HG of 758.7 mt.
ᵒ Dover sole. 1,597.11 mt is deducted from the ACL to accommodate the Tribal fishery (1,497 mt), research catch (50.84 mt), and incidental open access mortality (49.27 mt), resulting in a fishery HG of 48,402.9 mt.
ᵖ English sole. 259.52 mt is deducted from the ACL to accommodate the Tribal fishery (200 mt), research catch (17 mt), and incidental open access mortality (42.52 mt), resulting in a fishery HG of 8,700.5 mt.
q Lingcod north of 40°10′ N lat. 279.63 mt is deducted from the ACL for the Tribal fishery (250 mt), research catch (17.71 mt), and incidental open access mortality (11.92 mt) resulting in a fishery HG of 3,574.4 mt.
ʳ Lingcod south of 40°10′ N lat. 15.5 mt is deducted from the ACL to accommodate EFP fishing (4 mt), research catch (3.19 mt), and incidental open access mortality (8.31 mt), resulting in a fishery HG of 706.5 mt.
ˢ Longnose skate. 251.3 mt is deducted from the ACL to accommodate the Tribal fishery (220 mt), and research catch (12.46 mt), and incidental open access mortality (18.84 mt), resulting in a fishery HG of 1,408.7 mt.
ᵗ Longspine thornyhead north of 34°27′ N lat. 53.71 mt is deducted from the ACL to accommodate the Tribal fishery (30 mt), research catch (17.49 mt), and incidental open access mortality (6.22 mt), resulting in a fishery HG of 2,108.3 mt.
ᵘ Longspine thornyhead south of 34°27′ N. lat. 2.24 mt is deducted from the ACL to accommodate research catch (1.41 mt) and incidental open access mortality (0.83 mt), resulting in a fishery HG of 680.8 mt.
ᵛ Pacific cod. 506 mt is deducted from the ACL to accommodate the Tribal fishery (500 mt), research catch (5.47 mt), and incidental open access mortality (0.53 mt), resulting in a fishery HG of 1,094 mt.
ʷ Pacific ocean perch north of 40°10′ N lat. Pacific ocean perch are managed with stock-specific harvest specifications north of 40°10′ N. lat. and within the Minor Slope Rockfish complex south of 40°10′ N lat. 145.48 mt is deducted from the ACL to accommodate the Tribal fishery (130 mt), EFP fishing, research catch (5.39 mt), and incidental open access mortality (10.09 mt), resulting in a fishery HG of 3,297.5 mt.
ˣ Pacific whiting. Pacific whiting are assessed annually. The final specifications will be determined consistent with the U.S.-Canada Pacific Whiting Agreement and will be announced in 2024.
ʸ Petrale sole. 386.24 mt is deducted from the ACL to accommodate the Tribal fishery (350 mt), EFP fishing (1 mt), research catch (24.14 mt), and incidental open access mortality (11.1 mt), resulting in a fishery HG of 2,898.8 mt.
ᶻ Sablefish north of 36° N lat. The sablefish coastwide ACL value is not specified in regulations. The sablefish coastwide ACL value is apportioned north and south of 36° N lat., using the rolling 5-year average estimated swept area biomass from the NMFS NWFSC trawl survey, with 77.9 percent apportioned north of 36° N lat. and 22.1 percent apportioned south of 36° N lat. The northern ACL is 7,730 mt and is reduced by 773 mt for the Tribal allocation (10 percent of the ACL north of 36° N lat.). The 773 mt Tribal allocation is reduced by 1.7 percent to account for discard mortality. Detailed sablefish allocations are shown in table 1c.
ᵃᵃ Sablefish south of 36° N lat. The ACL for the area south of 36° N lat. is 2,193 mt (22.1 percent of the calculated coastwide ACL value). 27.4 mt is deducted from the ACL to accommodate research catch (2.40 mt) and the incidental open access fishery (25 mt), resulting in a fishery HG of 2,165.6 mt.
ᵇᵇ Shortspine thornyhead north of 34°27′ N lat. 78.3 mt is deducted from the ACL to accommodate the Tribal fishery (50 mt), research catch (10.48 mt), and incidental open access mortality (17.82 mt), resulting in a fishery HG of 1,249.7 mt for the area north of 34°27′ N lat.
ᶜᶜ Shortspine thornyhead south of 34°27′ N lat. 6.71 mt is deducted from the ACL to accommodate research catch (0.71 mt) and incidental open access mortality (6 mt), resulting in a fishery HG of 695.3 mt for the area south of 34°27′ N lat.
ᵈᵈ Spiny dogfish. 351.48 mt is deducted from the ACL to accommodate the Tribal fishery (275 mt), EFP fishing (1 mt), research catch (41.85 mt), and incidental open access mortality (33.63 mt), resulting in a fishery HG of 1,055.5 mt.
ᵉᵉ Splitnose rockfish south of 40°10′ N lat. Splitnose rockfish in the north is managed in the Slope Rockfish complex and with stock-specific harvest specifications south of 40°10′ N lat. 18.42 mt is deducted from the ACL to accommodate EFP fishing (1.5 mt), research catch (11.17 mt), and incidental open access mortality (5.75 mt), resulting in a fishery HG of 1,534.3 mt.
ᶠᶠ Starry flounder. 48.28 mt is deducted from the ACL to accommodate the Tribal fishery (2 mt), research catch (0.57 mt), and incidental open access mortality (45.71 mt), resulting in a fishery HG of 343.7 mt.
ᵍᵍ Widow rockfish. 238.32 mt is deducted from the ACL to accommodate the Tribal fishery (200 mt), EFP fishing (18 mt), research catch (17.27 mt), and incidental open access mortality (3.05 mt), resulting in a fishery HG of 11,243.7 mt.
ʰʰ Yellowtail rockfish north of 40°10′ N lat. Yellowtail rockfish are managed with stock-specific harvest specifications north of 40°10′ N lat. and within the Minor Shelf Rockfish complex south of 40°10′ N lat. 1,027.55 mt is deducted from the ACL to accommodate the Tribal fishery (1,000 mt), research catch (20.55 mt), and incidental open access mortality (7 mt), resulting in a fishery HG of 4,263.3 mt.
ʲʲ Black rockfish/Blue rockfish/Deacon rockfish (Oregon). 1.82 mt is deducted from the ACL to accommodate research catch (0.08 mt), and incidental open access mortality (1.74 mt), resulting in a fishery HG of 592.2 mt.
ʲʲ Cabezon/kelp greenling (Washington). 2 mt is deducted from the ACL to accommodate the Tribal fishery, resulting in a fishery HG is 15 mt.
ᵏᵏ Cabezon/kelp greenling (Oregon). 0.79 mt is deducted from the ACL to accommodate research catch (0.05 mt) and incidental open access mortality (0.74 mt), resulting in a fishery HG of 179.2 mt.
ˡˡ Nearshore Rockfish north of 40°10′ N lat. 3.27 mt is deducted from the ACL to accommodate the Tribal fishery (1.5 mt), research catch (0.47 mt), and incidental open access mortality (1.31 mt), resulting in a fishery HG of 87.7 mt. State-specific HGs are 17.2 mt (Washington), 30.9 mt (Oregon), and 39.9 mt (California). The ACT for copper rockfish (California) is 6.99 mt. The ACT for quillback rockfish (California) is 0.96 mt.
ᵐᵐ Nearshore Rockfish south of 40°10′ N lat. 4.54 mt is deducted from the ACL to accommodate research catch (2.68 mt) and incidental open access mortality (1.86 mt), resulting in a fishery HG of 886.5 mt. The ACT for copper rockfish is 87.73 mt. The ACT for quillback rockfish is 0.97 mt.
ⁿⁿ Other Fish. The Other Fish complex is comprised of kelp greenling off California and leopard shark coastwide. 21.24 mt is deducted from the ACL to accommodate research catch (6.29 mt) and incidental open access mortality (14.95 mt), resulting in a fishery HG of 201.8 mt.
ᵒᵒ Other Flatfish. The Other Flatfish complex is comprised of flatfish species managed in the PCGFMP that are not managed with stock-specific OFLs/ABCs/ACLs. Most of the species in the Other Flatfish complex are unassessed and include: butter sole, curlfin sole, flathead sole, Pacific sanddab, rock sole, sand sole, and rex sole. 220.79 mt is deducted from the ACL to accommodate the Tribal fishery (60 mt), research catch (23.63 mt), and incidental open access mortality (137.16 mt), resulting in a fishery HG of 4,653.2 mt.
ᵖᵖ Shelf Rockfish north of 40°10′ N lat. 70.94 mt is deducted from the ACL to accommodate the Tribal fishery (30 mt), research catch (15.32 mt), and incidental open access mortality (25.62 mt), resulting in a fishery HG of 1,207.1 mt.
qq Shelf Rockfish south of 40°10′ N lat. 132.77 mt is deducted from the ACL to accommodate EFP fishing (50 mt), research catch (15.1 mt), and incidental open access mortality (67.67 mt) resulting in a fishery HG of 1,331.4 mt.
ʳʳ Slope Rockfish north of 40°10′ N lat. 65.39 mt is deducted from the ACL to accommodate the Tribal fishery (36 mt), research catch (10.51 mt), and incidental open access mortality (18.88 mt), resulting in a fishery HG of 1,450.6 mt.
ˢˢ Slope Rockfish south of 40°10′ N lat. 38.94 mt is deducted from the ACL to accommodate EFP fishing (1 mt), research catch (18.21 mt), and incidental open access mortality (19.73 mt), resulting in a fishery HG of 658.1 mt. Blackgill rockfish has a stock-specific HG for the entire groundfish fishery south of 40°10′ N lat. set equal to the species' contribution to the 40-10-adjusted ACL. Harvest of blackgill rockfish in all groundfish fisheries south of 40°10′ N lat. counts against this HG of 169.9 mt.

Table 2b to Part 660, Subpart C—2024, and Beyond, Allocations by Species or Species Group

Table 2b. to Part 660, Subpart C—2024, and Beyond, Allocations by Species or Species Group
[Weight in metric tons]
Stocks/stock complexes | Area | Fishery HG or ACT | Trawl: % | Trawl: Mt | Non-Trawl: % | Non-Trawl: Mt
YELLOWEYE ROCKFISH ᵃ | Coastwide | 42.6 | 8 | 3.41 | 92 | 39.2
Arrowtooth flounder | Coastwide | 12,083 | 95 | 11,478.9 | 5 | 604.2
Big skate ᵃ | Coastwide | 1,207.2 | 95 | 1,146.8 | 5 | 60.4
Bocaccio ᵃ | S of 40°10′ N lat | 1,779.9 | 39.04 | 694.9 | 60.96 | 1,085
Canary rockfish ᵃ | Coastwide | 1,227.4 | 72.3 | 887.4 | 27.7 | 340
Chilipepper rockfish | S of 40°10′ N lat | 2,023.4 | 75 | 1,517.6 | 25 | 505.9
Cowcod a b | S of 40°10′ N lat | 67.8 | 36 | 24.4 | 64 | 43.4
Darkblotched rockfish | Coastwide | 758.7 | 95 | 720.8 | 5 | 37.9
Dover sole | Coastwide | 4,8402.9 | 95 | 45,982.7 | 5 | 2,420.1
English sole | Coastwide | 8,700.5 | 95 | 8265.5 | 5 | 435
Lingcod | N of 40°10′ N lat | 3,574.4 | 45 | 1,608.5 | 55 | 1,965.9
Lingcod ᵃ | S of 40°10′ N lat | 706.5 | 40 | 282.6 | 60 | 423.9
Longnose skate ᵃ | Coastwide | 1,408.7 | 90 | 1,267.8 | 10 | 140.9
Longspine thornyhead | N of 34°27′ N lat | 2,108.3 | 95 | 2,002.9 | 5 | 105.4
Pacific cod | Coastwide | 1,094 | 95 | 1,039.3 | 5 | 54.7
Pacific ocean perch | N of 40°10′ N lat | 3,297.5 | 95 | 3,132.6 | 5 | 164.9
Pacific whiting ᶜ | Coastwide | TBD | 100 | TBD | 0 | 0
Petrale sole ᵃ | Coastwide | 2898.8 |  | 2,868.8 |  | 30
Sablefish | N of 36° N lat | NA | See table 2c
Sablefish | S of 36° N lat | 2,165.6 | 42 | 909.6 | 58 | 1,256.0
Shortspine thornyhead | N of 34°27′ N lat | 1,249.7 | 95 | 1,187.2 | 5 | 62.5
Shortspine thornyhead | S of 34°27′ N lat | 695.3 |  | 50 |  | 645.3
Splitnose rockfish | S of 40°10′ N lat | 1,534.3 | 95 | 1,457.6 | 5 | 76.7
Starry flounder | Coastwide | 343.7 | 50 | 171.9 | 50 | 171.9
Widow rockfish ᵃ | Coastwide | 11,243.7 |  | 10,843.7 |  | 400
Yellowtail rockfish | N of 40°10′ N lat | 4,263.3 | 88 | 3,751.7 | 12 | 511.6
Other Flatfish | Coastwide | 4,653.2 | 90 | 4,187.9 | 10 | 465.3
Shelf Rockfish ᵃ | N of 40°10′ N lat | 1,207.1 | 60.2 | 726.7 | 39.8 | 480.4
Shelf Rockfish ᵃ | S of 40°10′ N lat | 1,331.4 | 12.2 | 162.43 | 87.8 | 1,169.0
Slope Rockfish | N of 40°10′ N lat | 1,450.6 | 81 | 1,175.0 | 19 | 275.6
Slope Rockfish ᵃ | S of 40°10′ N lat | 658.1 | 63 | 414.6 | 37 | 243.5
ᵃ Allocations decided through the biennial specification process.
ᵇ The cowcod non-trawl allocation is further split 50:50 between the commercial and recreational sectors. This results in a sector-specific ACT of 21.7 mt for the commercial sector and 21.7 mt for the recreational sector.
ᶜ Consistent with regulations at § 660.55(i)(2), the commercial harvest guideline for Pacific whiting is allocated as follows: 34 percent for the C/P Coop Program; 24 percent for the MS Coop Program; and 42 percent for the Shorebased IFQ Program. No more than 5 percent of the Shorebased IFQ Program allocation may be taken and retained south of 42° N lat. before the start of the primary Pacific whiting season north of 42° N lat.

Table 2c to Part 660, Subpart C—Sablefish North of 36° N Lat. Allocations, 2024 and Beyond

Table 2c. to Part 660, Subpart C—Sablefish North of 36° N Lat. Allocations, 2024 and Beyond
[Weights in metric tons]
Year | ACL | Set-asides: Tribal ᵃ | Set-asides: Research | Recreational estimate | Exempted fishing permit | Commercial harvest guideline (HG) | Limited entry HG: Percent | Limited entry HG: mt | Open access HG: Percent | Open access HG: m ᵇ
2024 | 7,730 | 773 | 30.7 | 6 | 1 | 6,919 | 90.6 | 6,269 | 9.4 | 650
Year | LE all | Limited entry (LE) trawl ᶜ |  |  |  | LE fixed gear (FG) ᵈ
|  | All trawl | At-sea whiting | Shorebased IFQ |  | All FG | Primary |  | Daily trip limit
2024 | 6,269 | 3,636 | 100 | 3,536 | 2,633 | 2,238 |  | 395
ᵃ The tribal allocation is further reduced by 1.7 percent for discard mortality resulting in 759.9 mt in 2024.
ᵇ The open access HG is taken by the incidental OA fishery and the directed OA fishery.
ᶜ The trawl allocation is 58 percent of the limited entry HG.
ᵈ The limited entry fixed gear allocation is 42 percent of the limited entry HG.

4. In § 660.140, revise table 1 to paragraph (d)(1)(ii)(D) to read as follows:

§ 660.140 Shorebased IFQ Program.

* * * * *

(d) * * *

(1) * * *

(ii) * * *

(D) * * *

Table 1 to Paragraph (d)(1)(ii)(D)—Shorebased Trawl Allocations for 2023 and 2024
IFQ species | Area | 2023 Shorebased trawl allocation (mt) | 2024 Shorebased trawl allocation (mt)
YELLOWEYE ROCKFISH | Coastwide | 4.42 | 3.41
Arrowtooth flounder | Coastwide | 15,640.17 | 11,408.87
Bocaccio | S of 40°10′ N lat | 700.33 | 694.87
Canary rockfish | Coastwide | 842.50 | 851.42
Chilipepper | S of 40°10′ N lat | 1,563.80 | 1517.60
Cowcod | S of 40°10′ N lat | 24.80 | 24.42
Darkblotched rockfish | Coastwide | 646.78 | 644.34
Dover sole | Coastwide | 45,972.75 | 45,972.75
English sole | Coastwide | 8,320.56 | 8,265.46
Lingcod | N of 40°10′ N lat | 1,829.27 | 1,593.47
Lingcod | S of 40°10′ N lat | 284.20 | 282.60
Longspine thornyhead | N of 34°27′ N lat | 2,129.23 | 2,002.88
Pacific cod | Coastwide | 1,039.30 | 1,039.30
Pacific halibut (IBQ) ᵃ | N of 40°10′ N lat | TBD | TBD
Pacific ocean perch | N of 40°10′ N lat | 2,956.14 | 2,832.64
Pacific whiting ᵇ | Coastwide | 159,681.38 | TBD
Petrale sole | Coastwide | 3,063.76 | 2,863.76
Sablefish | N of 36° N lat | 3,893.50 | 3,535.91
Sablefish | S of 36° N lat | 970.00 | 909.55
Shortspine thornyhead | N of 34°27′ N lat | 1,146.67 | 1,117.22
Shortspine thornyhead | S of 34°27′ N lat | 50 | 50
Splitnose rockfish | S of 40°10′ N lat | 1,494.70 | 1,457.60
Starry flounder | Coastwide | 171.86 | 171.86
Widow rockfish | Coastwide | 11,509.68 | 10,367.68
Yellowtail rockfish | N of 40°10′ N lat | 3,761.84 | 3,431.69
Other Flatfish complex | Coastwide | 4,142.09 | 4,152.89
Shelf Rockfish complex | N of 40°10′ N lat | 694.70 | 691.65
Shelf Rockfish complex | S of 40°10′ N lat | 163.02 | 162.43
Slope Rockfish complex | N of 40°10′ N lat | 894.43 | 874.99
Slope Rockfish complex | S of 40°10′ N lat | 417.1 | 414.58
ᵃ Pacific halibut IBQ is set according to 50 CFR 660.55(m).
ᵇ Managed through an international process. This allocation will be updated when announced.

* * * * *

5. In § 660.231, revise paragraph (b)(3)(i) to read as follows:

§ 660.231 Limited entry fixed gear sablefish primary fishery.

* * * * *

(b) * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2023, the following annual limits are in effect: Tier 1 at 72,904 lb (33,069 kg), Tier 2 at 33,138 lb (15,031 kg), and Tier 3 at 18,936 lb (8,589 kg). In 2024 and beyond, the following annual limits are in effect: Tier 1 at 66,377lb (30,108 kg), Tier 2 at 30,171 lb (13,685 kg), and Tier 3 at 17,241lb (7,820 kg).

* * * * *

[FR Doc. 2023-28339 Filed 12-26-23; 8:45 am]

BILLING CODE 3510-22-P